DEPARTMENT OF EDUCATION

Applications for New Awards; American Indian Vocational Rehabilitation Services—Training and Technical Assistance

AGENCY: Office of Special Education and Rehabilitative Services, Department of Education.

ACTION: Notice.

Overview Information:American Indian Vocational Rehabilitation Services—Training and Technical Assistance Notice inviting applications for new awards for fiscal year (FY) 2015.

Catalog of Federal Domestic Assistance (CFDA) Number: 84.250Z.

DATES: Applications Available: July 22, 2015.

Date of Pre-Application Webinar: July 30, 2015.

Deadline for Transmittal of Applications: August 21, 2015.

Full Text of Announcement

I. Funding Opportunity Description

Purpose of Program: The purpose of this program is to provide training and technical assistance (TA) to governing bodies of Indian tribes that have received an American Indian Vocational Rehabilitation Services (AIVRS) grant under section 121(a) of the Rehabilitation Act of 1973, as amended (the Act). Under section 121(c)(3) of the Act, the Commissioner of the Rehabilitation Services Administration (RSA) makes grants to, or enters into contracts or other cooperative agreements with, entities that have experience in the operation of AIVRS programs to provide such training and TA on developing, conducting, administering, and evaluating these programs.

Priority: We are establishing this priority for the FY 2015 grant competition only in accordance with section 437(d)(1) of the General Education Provisions Act (GEPA), 20 U.S.C. 1232(d)(1).

Absolute Priority: This priority is an absolute priority. Under 34 CFR 75.105(c)(3), we consider only applications that meet this priority.

Background: The Workforce Innovation and Opportunity Act (WIOA) (Pub. L. 113-128), enacted in July of 2014, made significant changes to the Act, including adding provisions to the AIVRS program that require the reservation of funds to support training and TA. In particular, the new section 121(c) of the Act requires the Commissioner of RSA to reserve not less than 1.8 percent and not more than 2 percent of the funds set aside from the State vocational rehabilitation (VR) program (section 110(d) of the Act) for the AIVRS program to provide training and TA to governing bodies of Indian tribes that have received AIVRS grants under section 121(a) of the Act.

Under section 121(a) the Department currently supports 83 projects that provide VR services to American Indians with disabilities, consistent with each individual's strengths, resources, priorities, concerns, abilities, capabilities, interests, and informed choice, so that they may prepare for, and engage in, high-quality competitive integrated employment that will increase opportunities for economic self-sufficiency.

To help determine funding priorities, section 121(c)(3) of the Act requires RSA to survey the governing bodies of Indian tribes operating AIVRS projects to identify their training and TA needs. RSA's survey of the AIVRS grantees conducted in January 2015 resulted in a 50 percent response rate and indicated training and TA needs in five primary areas: (1) Knowledge of applicable laws and regulations governing the AIVRS program; (2) staff development and service provision (e.g., best practices for serving individuals with physical and mental disabilities, case management and case record documentation, eligibility determinations, and developing individualized plans for employment); (3) financial management (e.g., budget management and compliance with applicable Federal grant administrative regulations and cost principles); (4) data collection, reporting, and performance measures; and (5) assistive technology (AT) (e.g., knowledge of what AT is, evaluating the need for AT, use of AT, access to AT). Beginning in FY 2016, this survey will be conducted each year as part of the AIVRS grantees' annual reporting to the Department. We will consider the results of the survey in determining specific training and TA topics to be included each year in the training and TA cooperative agreement.

The priority is:

American Indian Vocational Rehabilitation Services—Training and Technical Assistance Program.

This priority supports a five-year cooperative agreement to establish an American Indian Vocational Rehabilitation Services (AIVRS) Training and Technical Assistance Center (Center) to provide three different types of training and technical assistance (TA) for AIVRS projects: (1) Intensive, sustained training and TA; ¹ (2) targeted, specialized training and TA; ² and (3) universal, general training and TA.³ The Center will develop and provide these types of training and TA for AIVRS projects in the following priority areas:

¹ For the purposes of this priority, “intensive, sustained training and technical assistance” means TA services often provided on-site and requiring a stable, ongoing relationship between the AIVRS—Training and Technical Assistance program staff and the training and TA recipient. “Technical assistance services” are defined as negotiated series of activities designed to reach a valued outcome. This category of training and TA should result in changes to policy, program, practice, or operations that support increased recipient capacity of improved outcomes at one or more systems levels.

² For the purposes of this priority, “targeted, specialized training and technical assistance” means TA based on needs common to multiple recipients and not extensively individualized. A relationship is established between the training and TA recipient and one or more training and TA center staff. This category of training and TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized training and TA.

³ For the purposes of this priority, “universal, general training and technical assistance” means training and TA and information provided to independent users through their own initiative, resulting in minimal interaction with training and TA center staff and including one-time, invited or offered conference presentations by training and TA center staff. This category of training and TA also includes information or products, such as newsletters, guidebooks, or research syntheses, downloaded from the training and TA center's Web site by independent users. Brief communications by training and TA center staff with recipients, either by telephone or email, are also considered universal, general training and TA.

(a) Applicable laws and regulations governing the AIVRS program;

(b) Promising practices for providing services to American Indians with disabilities;

(c) The delivery of services to American Indians with disabilities, including the determination of eligibility, case management, case record documentation, assessment, development of the individualized plan for employment, and placement into competitive integrated employment;

(d) Knowledge of assistive technology (AT), including what AT is, how to evaluate the need for AT, use of AT, and access to AT;

(e) Implementing professional development practices to ensure effective project coordination, administration, and management;

(f) Implementing appropriate financial and grant management practices to ensure compliance with OMB's Uniform Guidance (2 CFR 200) and the Education Department General Administrative Regulations (EDGAR); and

(g) Evaluating program performance, including data collection, data analysis, and reporting.

Specific topics for training and TA in each of these priority areas will be identified on an annual basis and in coordination with the Rehabilitation Services Administration (RSA).

Project Activities

To be considered for funding under this priority, the Center must, at a minimum, conduct the following activities in a culturally appropriate manner:

(a) Develop and provide intensive, sustained training and TA to a minimum of three AIVRS projects in the first year. For future years, the minimum number of AIVRS projects to receive intensive, sustained training and TA will be negotiated through the Cooperative Agreement. The Center must—

(1) Develop and implement training and TA consistent with AIVRS project activities and tailored to the specific needs and challenges of the AIVRS project receiving the intensive training and TA;

(2) Provide training and TA under an agreement with each AIVRS project receiving intensive training and TA that, at a minimum, details the purpose of the training and TA, intended outcomes, and requirements for the subsequent evaluation of the training and TA; and

(3) Assess the results of the training and TA 90 days after its completion to ensure that the recipient is able to apply effectively the training and TA, identify any issues or challenges in its implementation, and provide additional training and TA, either virtually or on-site, as needed;

(b) Provide a range of targeted, specialized training and TA in the topic areas described in this priority based on needs common to multiple AIVRS projects. The Center must follow-up with recipients of targeted, specialized training and TA in order to determine the effectiveness of the training and TA;

(c) Provide universal, general training and TA in the topic areas in this priority;

(d) Provide a minimum of two Webinars or video conferences in each of the topic areas in this priority to describe and disseminate up-to-date information, guides, examples, and emerging and promising practices in each area; and

(e) Develop new information technology (IT) platforms and systems, or modify existing platforms and systems, as follows:

(i) Develop and maintain a state-of-the-art IT platform sufficient to support Webinars, teleconferences, video conferences, and other virtual methods of dissemination of information and TA;

(ii) Develop and maintain a state-of-the-art archiving and dissemination system that is open and available to all AIVRS projects and that provides a central location for training and TA products for later use, including course curricula, audiovisual materials, Webinars, examples of promising practices related to the topic areas in this priority, the primary areas identified through the annual surveys completed by AIVRS projects, other topics identified by RSA, and other relevant TA products;

Note: All products produced by the Center must meet government and industry-recognized standards for accessibility; and

(iii) Ensure that all products, resources, and materials developed by the Center are widely disseminated across the AIVRS projects and reflect the AIVRS population and diversity among its communities to the maximum extent possible;

(f) Establish a community of practice ⁴ that will act as a vehicle for communication, an exchange of information among AIVRS projects, and a forum for sharing the results of training and TA projects that are in progress or have been completed;

⁴ For more information on communities of practice, see: www.tadnet.org/pages/510.

(g) Conduct outreach to AIVRS projects so that they are aware of, and can participate in, training and TA activities; and

(h) Conduct an evaluation to determine the quality, relevance, and usefulness of the Center's training and TA, including the impact of the Center's activities on the ability of AIVRS grantees to manage effectively their projects and improve the delivery of VR services to American Indians with disabilities.

Application Requirements

To be funded under this priority, applicants must meet the application and administrative requirements in this priority. RSA encourages innovative approaches to meet these requirements, which are:

(a) Demonstrate in the narrative section of the application under “Significance of the Proposed Project” how the proposed project will—

(1) Use the applicant's knowledge and experience in the operation of AIVRS projects in order to provide training and TA for these projects;

(2) Address the AIVRS grantees' capacity to implement effectively an AIVRS project. To meet this requirement, the applicant must:

(i) Demonstrate knowledge of emerging and promising practices in the topic areas in this priority;

(ii) Demonstrate knowledge of current RSA guidance and Federal initiatives designed to improve the functioning of grant programs in general and grant programs for American Indian tribes in particular; and

(iii) Present information about the difficulties that AIVRS grantees have encountered in implementing effective AIVRS projects;

(b) Demonstrate in the narrative section of the application under “Quality of Project Design” how the proposed project will—

(1) Achieve its goals, objectives, and intended outcomes. To meet this requirement, the applicant must provide—

(i) Measurable intended project outcomes;

(ii) A plan for how the proposed project will achieve its intended outcomes;

(iii) A plan for communicating and coordinating with RSA and key staff in AIVRS projects; and

(iv) A draft training module for one of the topic areas in this priority to demonstrate how participants would be trained in that area. The module is a required attachment in the application and must include, at a minimum, the following:

(A) The goals and objectives of this training module;

(B) A specific list of what participants should know and be able to do as a result of successfully completing the module;

(C) Up-to-date resources, publications, applicable laws and regulations, and other materials that may be used to develop the module;

(D) Exercises that will provide an opportunity for application of the subject matter; and

(E) A description of how participant knowledge, skills, and abilities will be measured;

(2) Use a logic model ⁵ to develop project plans and activities that includes, at a minimum, the goals, activities, outputs, and outcomes of the proposed project;

⁵ For purposes of this priority, a “logic model” is as defined in 34 CFR 77.1(c). The following Web sites provide more information on logic models: www.researchutilization.org/matrix/logicmodel_resource3c.html and www.tadnet.org/pages/589.

(3) Be based on current research and make use of emerging and promising practices, and evidence-based practices, where available. To meet this requirement the applicant must describe—

(i) The current research on the emerging and promising practices in the topic areas in this priority; and

(ii) How the Center will incorporate current research and promising and evidence-based practices, including research about adult learning principles and implementation science, in the development and delivery of its products and services;

(4) Develop products and provide services that are of high quality and sufficient intensity and duration to achieve the intended outcomes of the proposed project. To address this requirement the applicant must describe—

(i) Its proposed approach to universal, general training and TA;

(ii) Its proposed approach to targeted, specialized training and TA, which must identify—

(A) The intended recipients of the products and services under this approach, including the categories of personnel that would be receiving the training and TA;

(B) Its proposed medium for providing targeted, specialized training and TA; and

(C) Its proposed methodology for determining topics for the targeted, specialized training and TA;

(iii) Its proposed approach to intensive, sustained training and TA, which must identify—

(A) Its proposed approach to identifying recipients for intensive, sustained training and TA;

(B) Its proposed methodology for providing intensive, sustained training and TA to recipients; and

(C) Its proposed approach to assessing the training and TA needs of recipients, including their ability to respond effectively to the training and TA;

(5) Develop products and implement services to maximize the proposed project's efficiency. To address this requirement, the applicant must describe—

(i) How the proposed project will use technology to achieve the intended project outcomes; and

(ii) With whom the proposed project will collaborate and the intended outcomes of this collaboration;

(c) Demonstrate in the narrative section of the application under “Adequacy of Project Resources” how—

(1) The applicant and any key partners possess adequate resources to carry out the proposed activities; and

(2) The proposed costs are reasonable in relation to the anticipated results and benefits;

(d) Demonstrate in the narrative section of the application under “Quality of Project Personnel” how—

(1) The proposed project will encourage applications for employment from persons who are members of groups that have historically been underrepresented based on race, color, national origin, gender, age, or disability, as appropriate; and

(2) The proposed key project personnel, consultants, and subcontractors have the qualifications and experience to provide training and TA to AIVRS projects in each of the topic areas in this priority and to achieve the project's intended outcomes;

(e) Demonstrate in the narrative section of the application under “Quality of the Management Plan” how the proposed management plan will ensure that the project's intended outcomes will be achieved on time and within budget. To address this requirement, the applicant must describe—

(1) Clearly defined roles and responsibilities for two full-time key project personnel designated to the Center through the entire project period and for consultants and subcontractors, as applicable;

(2) Timelines and milestones for accomplishing the project tasks;

(3) By using a personnel loading chart, detail project activities through the entire project period, key personnel and any consultants or subcontractors that will be allocated to each activity, and the designated level of effort for each of those activities;

(4) How the personnel allocations in the personnel loading chart are appropriate and adequate to achieve the project's intended outcomes, including an assurance that all personnel will communicate with stakeholders and RSA in a timely fashion;

(5) How the proposed management plan will ensure that the training and TA products developed through this cooperative agreement are complete, accurate, and of high quality; and

(6) How the proposed project will benefit from a diversity of perspectives, including AIVRS projects and consumers, State VR agencies, TA providers, and policy makers, in its development and operation;

(f) Demonstrate in the narrative section of the application under “Quality of the Evaluation Plan” how the applicant proposes to collect and analyze data on specific and measurable goals, objectives, and intended outcomes of the project, including the effectiveness of the training and TA provided. To address this requirement, the applicant must describe—

(i) Its proposed evaluation methodologies, including instruments, data collection methods, and analyses;

(ii) Its proposed standards or targets for determining effectiveness;

(iii) How it will use the evaluation results to examine the effectiveness of its implementation and its progress toward achieving the intended outcomes; and

(iv) How the methods of evaluation will produce quantitative and qualitative data that demonstrate whether the project and individual training and TA activities achieved their intended outcomes.

Waiver of Proposed Rulemaking: Under the Administrative Procedure Act (5 U.S.C. 553), the Department generally offers interested parties the opportunity to comment on proposed priorities. Section 437(d)(1) of GEPA, however, allows the Secretary to exempt from rulemaking requirements regulations governing the first grant competition under a new or substantially revised program authority. This is the first grant competition for this program under the revised authority in section 121(c) of the Rehabilitation Act and therefore qualifies for this exemption. In order to ensure timely grant awards, the Secretary has decided to forego public comment on the priority under section 437(d)(1) of GEPA. This priority will apply to the FY 2015 grant competition only.

Program Authority: 29 U.S.C. 741.

Applicable Regulations: (a) The Education Department General Administrative Regulations (EDGAR) in 34 CFR parts 75, 77, 79, 81, 82, 84, and 86. (b) The OMB Guidelines to Agencies on Governmentwide Debarment and Suspension (Nonprocurement) in 2 CFR part 180, as adopted and amended as regulations of the Department in 2 CFR part 3485, and the Uniform Administrative Requirements, Cost Principles, and Audit Requirements for Federal Awards in 2 CFR part 200, as adopted and amended in 2 CFR part 3474.

Note: The regulations in 34 CFR part 86 apply to institutions of higher education only.

II. Award Information

Type of Award: Cooperative agreement.

Estimated Available Funds: $704,880.

Estimated Number of Awards: 1.

Note: The Department is not bound by any estimates in this notice.

Project Period: Up to 60 months.

Continuing the Fourth and Fifth Years of the Program:

In deciding whether to continue funding the Center for the fourth and fifth years, the Department, as part of the review of the cooperative agreement, the application narrative, and the annual performance reports will consider the degree to which the Center demonstrates substantial progress in providing intensive, sustained training and TA to AIVRS projects; targeted, specialized training and TA to AIVRS projects; and universal, general training and TA to AIVRS projects, and the extent to which the training and TA provided has had an impact on the ability of AIVRS projects to implement appropriate practices in the seven areas outlined in the priority.

III. Eligibility Information

1. Eligible Applicants: State, local, or tribal governments, non-profit organizations, or institutions of higher education that have experience in the operation of AIVRS programs.

2. Cost Sharing or Matching: This competition does not require cost sharing or matching.

IV. Application and Submission Information

1. Address to Request Application Package: You can obtain an application package via the Internet or from the Education Publications Center (ED Pubs). To obtain a copy via the Internet, use the following address: www.ed.gov/fund/grant/apply/grantapps/index.html. To obtain a copy from ED Pubs, write, fax, or call the following: ED Pubs, U.S. Department of Education, P.O. Box 22207, Alexandria, VA 22304. Telephone, toll free: 1-877-433-7827. FAX: (703) 605-6794. If you use a telecommunications device for the deaf (TDD) or a text telephone (TTY), call, toll free: 1-877-576-7734.

You can contact ED Pubs at its Web site, also: www.EDPubs.gov or at its email address: edpubs@inet.ed.gov.

If you request an application from ED Pubs, be sure to identify this competition as follows: CFDA number 84.250Z.

Individuals with disabilities can obtain a copy of the application package in an accessible format (e.g., braille, large print, audiotape, or compact disc) by contacting the person listed under FOR FURTHER INFORMATION CONTACT in section VII of this notice.

Content and Form of Application Submission: Requirements concerning the content of an application, together with the forms you must submit, are in the application package for this competition.

Page Limit: The application narrative (Part III of the application) is where you, the applicant, address the selection criteria that reviewers use to evaluate your application. Because of the limited time available to review applications and make a recommendation for funding, we strongly encourage applicants to limit the application narrative to no more than 45 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial. An application submitted in any other font (including Times Roman or Arial Narrow) will not be accepted.

In addition to the page-limit guidance on the application narrative section, we recommend that you adhere to the following page limits, using the standards listed above: (1) The abstract should be no more than one page, (2) the resumes of key personnel should be no more than two pages per person, and (3) the bibliography should be no more than three pages. A personnel loading chart and a draft training model are required attachments in the application. There are no page limits or standards for these attachments. The only optional materials that will be accepted are letters of support. Please note that our reviewers are not required to read optional materials.

Please note that any funded applicant's application abstract will be made available to the public.

3. Submission Dates and Times:

Applications Available: July 22, 2015.

Date of Pre-Application Webinar: Interested parties are invited to participate in a pre-application Webinar. The pre-application Webinar with staff from the Department will be held on July 30, 2015, at 2:00 p.m., Washington, DC time. The Webinar will be recorded. For further information about the pre-application Webinar, contact the person listed under FOR FURTHER INFORMATION CONTACT in section VII of this notice.

Deadline for Transmittal of Applications: August 21, 2015.

Applications for grants under this competition must be submitted electronically using the Grants.gov Apply site (Grants.gov). For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

4. Intergovernmental Review: This competition is subject to Executive Order 12372 and the regulations in 34 CFR part 79. However, under 34 CFR 79.8(a), we waive intergovernmental review in order to make an award by the end of FY 2015.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry (CCR)), the Government's primary registrant database;

c. Provide your DUNS number and TIN on your application; and

d. Maintain an active SAM registration with current information while your application is under review by the Department and, if you are awarded a grant, during the project period.

You can obtain a DUNS number from Dun and Bradstreet. A DUNS number can be created within one to two business days.

If you are a corporate entity, agency, institution, or organization, you can obtain a TIN from the Internal Revenue Service. If you are an individual, you can obtain a TIN from the Internal Revenue Service or the Social Security Administration. If you need a new TIN, please allow two to five weeks for your TIN to become active.

The SAM registration process can take approximately seven business days, but may take upwards of several weeks, depending on the completeness and accuracy of the data entered into the SAM database by an entity. Thus, if you think you might want to apply for Federal financial assistance under a program administered by the Department, please allow sufficient time to obtain and register your DUNS number and TIN. We strongly recommend that you register early.

Note: Once your SAM registration is active, you will need to allow 24 to 48 hours for the information to be available in Grants.gov and before you can submit an application through Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements: Applications for grants under this competition must be submitted electronically unless you qualify for an exception to this requirement in accordance with the instructions in this section.

a. Electronic Submission of Applications.

Applications for grants under the AIVRS—Training and Technical Assistance program, CFDA number 84.250Z, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the AIVRS—Training and Technical Assistance program at www.Grants.gov. You must search for the downloadable application package for this competition by the CFDA number. Do not include the CFDA number's alpha suffix in your search (e.g., search for 84.250, not 84.250Z).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that the problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system;

and

• No later than two weeks before the application deadline date (14 calendar days or, if the fourteenth calendar day before the application deadline date falls on a Federal holiday, the next business day following the Federal holiday), you mail or fax a written statement to the Department, explaining which of the two grounds for an exception prevents you from using the Internet to submit your application.

If you mail your written statement to the Department, it must be postmarked no later than two weeks before the application deadline date. If you fax your written statement to the Department, we must receive the faxed statement no later than two weeks before the application deadline date.

Address and mail or fax your statement to: Thomas Finch, U.S. Department of Education, 400 Maryland Avenue SW., Room 5147, Washington, DC 20202-2800. FAX: (202) 245-7592.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.250Z) LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: (CFDA Number 84.250Z) 550 12th Street SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from 34 CFR 75.210 of EDGAR and are listed in the application package.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Special Conditions: Under 2 CFR 3474.10, the Secretary may impose special conditions and, in appropriate circumstances, high-risk conditions on a grant if the applicant or grantee is not financially stable; has a history of unsatisfactory performance; has a financial or other management system that does not meet the standards in 2 CFR part 200, subpart D; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: The Government Performance and Results Act of 1993 (GPRA) directs Federal departments and agencies to improve the effectiveness of their programs by engaging in strategic planning, setting outcome-related goals for programs, and measuring program results against those goals.

The goal of this grant is to provide training and TA to governing bodies of Indian tribes located on Federal and State reservations (and consortia of such governing bodies) that receive grants under section 121(a) of the Act.

Pursuant to GPRA, the Department is in the process of developing performance measures for this program to assess the success of the grantee in meeting the training and TA goals of this program. In general, these measures will assess the quality, relevance, and usefulness of the training and TA provided by the Center, as well as the performance of the Center in achieving the project's intended outcomes with respect to the specific topics in each of the priority areas specified annually by RSA in the cooperative agreement. The grantee will be required to collect and annually report qualitative and quantitative data related to its performance on these measures in the Center's annual and final performance reports to the Department. The data used must be valid and verifiable.

5. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Thomas Finch, U.S. Department of Education, 400 Maryland Avenue SW., Room 5147, Potomac Center Plaza (PCP), Washington, DC 20202-2800. Telephone: (202) 245-7343 or by email: tom.finch@ed.gov.

If you use a TDD or a TTY, call the Federal Relay Service (FRS), toll free, at 1-800-877-8339.

VIII. Other Information

Accessible Format: Individuals with disabilities can obtain this document and a copy of the application package in an accessible format (e.g., braille, large print, audiotape, or compact disc) by contacting Wendell Bell, U.S. Department of Education, 400 Maryland Avenue SW., Room 5075, PCP, Washington, DC 20202-2550. Telephone: (202) 245-7363.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: July 17, 2015.
Michael K. Yudin,
Assistant Secretary for Special Education and Rehabilitative Services.

[FR Doc. 2015-17995 Filed 7-21-15; 8:45 am]

BILLING CODE 4000-01-P